DEPARTMENT OF COMMERCE

Bureau of Industry and Security

Action Affecting Export Privileges; TAK Components, Inc.

In the Matter of:

TAK Components, Inc., 2140 Fulham Dr., Apt. 18, Naperville, IL 60564, Respondent.

Mr. Saied Shahsavarani, President, 2140 Fulham Dr., Apt. 18, Naperville, IL 60564, Related Person.

Order Denying Export Privileges

A. Denial of Export Privileges of TAK Components, Inc.

On October 11, 2007, in the U.S. District Court for the Northern District of Illinois, TAK Components, Inc. (“TAK”) pled guilty to and was convicted of 16 counts of violating the International Emergency Economic Powers Act (50 U.S.C. 1701-1706 (2000)) (“IEEPA”). Specifically, TAK pled guilty to willfully exporting and transferring, and causing to be exported and transferred, from the United States to Iran, via the United Arab Emirates, replacement and service parts and equipment for agricultural machinery, without first having obtained the required authorization from the Department of Treasury's Office of Foreign Assets Control. TAK was sentenced to one year probation per count (to run concurrently), ordered to pay a special assessment of $400.00 per count (for a total special assessment of $6,400.00), and forfeited approximately $181,000 that had been obtained from the transactions.

Section 766.25 of the Export Administration Regulations (“EAR” or “Regulations”) ¹ provides, in pertinent part, that “[t]he Director of the Office of Exporter Services, in consultation with the Director of the Office of Export Enforcement, may deny the export privileges of any person who has been convicted of a violation of the [Export Administration Act (“EAA”)], the EAR, or any order, license or authorization issued thereunder; any regulation, license, or order issued under the International Emergency Economic Powers Act (50 U.S.C. 1701-1706); 18 U.S.C. 793, 794 or 798; section 4(b) of the Internal Security Act of 1950 (50 U.S.C. 783(b)), or section 38 of the Arms Export Control Act (22 U.S.C. 2778).” 15 CFR 766.25(a); see also Section 11(h) of the EAA, 50 U.S.C. app. 2410(h). The denial of export privileges under this provision may be for a period of up to 10 years from the date of the conviction. 15 CFR 766.25(d); see also 50 U.S.C. app. 2410(h). In addition, Section 750.8 of the Regulations states that the Bureau of Industry and Security's Office of Exporter Services may revoke any Bureau of Industry and Security (“BIS”) licenses previously issued in which the person had an interest in at the time of his conviction.

¹ The Regulations are currently codified in the Code of Federal Regulations at 15 CFR Parts 730-774 (2009). The Regulations issued pursuant to the EAA, which is currently codified at 50 U.S.C. app. 2401-2420 (2000). Since August 21, 2001, the EAA has been in lapse and the President, through Executive Order 13222 of August 17, 2001 (3 CFR, 2001 Comp. 783 (2002)), which has been extended by successive Presidential Notices, the most recent being that of July 23, 2008 (73 FR 43603, July 25, 2008), has continued the Regulations in effect under the International Emergency Economic Powers Act (50 U.S.C. 1701-1706 (2000)).

I have received notice of TAK's conviction for violating the IEEPA, and have provided notice and an opportunity for TAK to make a written submission to BIS, as provided in Section 766.25 of the Regulations. I have not received a submission from TAK. Based upon my review and consultations with BIS's Office of Export Enforcement, including its Director, and the facts available to BIS, I have decided to deny TAK's export privileges under the Regulations for a period of five years from the date of TAK's conviction. I have also decided to revoke all licenses issued pursuant to the Act or Regulations in which TAK had an interest at the time of its conviction.

B. Denial of Export Privileges of Related Person

Pursuant to Sections 766.25(h) and 766.23 of the Regulations, the Director of BIS's Office of Exporter Services, in consultation with the Director of BIS's Office of Export Enforcement, may take action to name persons related to a Respondent by ownership, control, position of responsibility, affiliation, or other connection in the conduct of trade or business in order to prevent evasion of a denial order. Saied Shahsavarani (“Shahsavarani”) was the corporate president and registered agent of TAK responsible for all aspects of TAK's day-to-day operations. Shahsavarani pled guilty to Count 17 of the information, 18.U.S.C. 1960(a), for knowingly aiding and abetting the operation of an unlicensed money transmitting business. Shahsavarani is related to TAK by ownership, control, position of responsibility, affiliation, or other connection in the conduct of trade or business. BIS believes that naming Shahsavarani as a person related to TAK is necessary to avoid evasion of the denial order against TAK.

As provided in Section 766.23 of the Regulations, I gave notice to Shahsavarani that his export privileges under the Regulations could be denied for up to 10 years due to his relationship with TAK and that BIS believes naming him as a person related to TAK would be necessary to prevent evasion of a denial order imposed against TAK. In providing such notice, I gave Shahsavarani an opportunity to oppose his addition to the TAK Denial Order as a related party. Having received no submission from Shahsavarani, I have decided, following consultations with BIS's Office of Export Enforcement, including its Director, to name Shahsavarani as a Related Person to the TAK Denial Order, thereby denying him export privileges for five years from the date of TAK's conviction.

I have also decided to revoke all licenses issued pursuant to the Act or Regulations in which the Related Person had an interest at the time of TAK's conviction. The five-year denial period will end on October 11, 2012.

Accordingly, it is hereby ordered

I. Until October 11, 2012, TAK Components, Inc., 2140 Fulham Dr., Apt. 18, Naperville, IL 60564, when acting for or on behalf of TAK, its successors or assigns, agents or employees, (“the Denied Person”) and the following person related to the Denied Person as defined by Section 766.23 of the Regulations: Saied Shahsavarani, President, 2140 Fulham Dr., Apt. 18, Naperville, IL 60564, and when acting for or on his behalf, employees, agents or representatives, (“the Related Person”) (together, the Denied Person and the Related Person are “Persons Subject to This Order”) may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the Persons Subject To This Order any item subject to the Regulations;

B. Take any action that facilitates the acquisition or attempted acquisition by the Persons Subject To This Order of the ownership, possession, or control of any item subject to the Regulations that has been or will be exported from the United States, including financing or other support activities related to a transaction whereby the Persons Subject To This Order acquires or attempts to acquire such ownership, possession or control;

C. Take any action to acquire from or to facilitate the acquisition or attempted acquisition from the Persons Subject To This Order of any item subject to the Regulations that has been exported from the United States;

D. Obtain from the Persons Subject To This Order in the United States any item subject to the Regulations with knowledge or reason to know that the item will be, or is intended to be, exported from the United States; or

E. Engage in any transaction to service any item subject to the Regulations that has been or will be exported from the United States and which is owned, possessed or controlled by the Persons Subject To This Order, or service any item, of whatever origin, that is owned, possessed or controlled by the Persons Subject To This Order if such service involves the use of any item subject to the Regulations that has been or will be exported from the United States. For purposes of this paragraph, servicing means installation, maintenance, repair, modification or testing.

III. In addition to the Related Person named above, after notice and opportunity for comment as provided in section 766.23 of the Regulations, any other person, firm, corporation, or business organization related to the Denied Person by affiliation, ownership, control, or position of responsibility in the conduct of trade or related services may also be made subject to the provisions of this Order if necessary to prevent evasion of the Order.

IV. This Order does not prohibit any export, reexport, or other transaction subject to the Regulations where the only items involved that are subject to the Regulations are the foreign-produced direct product of U.S.-origin technology.

V. This Order is effective immediately and shall remain in effect until October 11, 2012.

VI. In accordance with Part 756 of the Regulations, TAK may file an appeal of this Order with the Under Secretary of Commerce for Industry and Security. The appeal must be filed within 45 days from the date of this Order and must comply with the provisions of Part 756 of the Regulations.

VII. In accordance with Part 756 of the Regulations, the Related Person may also file an appeal of this Order with the Under Secretary of Commerce for Industry and Security.

VIII. A copy of this Order shall be delivered to the Denied Person and the Related Person. This Order shall be published in the Federal Register.

Entered this 10th day of June 2009.
Bernard Kritzer,
Director, Office of Exporter Services.

[FR Doc. E9-14315 Filed 6-17-09; 8:45 am]

BILLING CODE 3510-DT-P